DEPARTMENT OF TRANSPORTATION

Federal Aviation Administration

14 CFR Part 39

[Docket No. 2000-NM-131-AD; Amendment 39-12003; AD 2000-23-30]

RIN 2120-AA64

Airworthiness Directives; Empresa Brasileira de Aeronautica S.A. (EMBRAER) Model EMB-120 Series Airplanes

AGENCY: Federal Aviation Administration, DOT.

ACTION: Final rule.

SUMMARY: This amendment adopts a new airworthiness directive (AD), applicable to certain EMBRAER Model EMB-120 series airplanes, that requires installation of an additional drain at the fuselage aft section. This action is necessary to prevent mechanical blockage of the elevator control cables due to the freezing of water collected inside the fuselage between the rear pressure bulkhead and the fire wall of the auxiliary power unit. Such cable blockage could result in reduced controllability of the airplane. This action is intended to address the identified unsafe condition.

DATES: Effective January 2, 2001.

The incorporation by reference of certain publications listed in the regulations is approved by the Director of the Federal Register as of January 2, 2001.

ADDRESSES: The service information referenced in this AD may be obtained from Empresa Brasileira de Aeronautica S.A. (EMBRAER), P.O. Box 343—CEP 12.225, Sao Jose dos Campos—SP, Brazil. This information may be examined at the Federal Aviation Administration (FAA), Transport Airplane Directorate, Rules Docket, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Robert Capezzuto, Aerospace Engineer, Systems and Flight Test Branch, ACE-116A, FAA, Atlanta Aircraft Certification Office, One Crown Center, 1895 Phoenix Boulevard, suite 450, Atlanta, Georgia 30349; telephone (770) 703-6071; fax (770) 703-6097.

SUPPLEMENTARY INFORMATION: A proposal to amend part 39 of the Federal Aviation Regulations (14 CFR part 39) to include an airworthiness directive (AD) that is applicable to certain EMBRAER Model EMB-120 series airplanes was published in the Federal Register on August 29, 2000 (65 FR 52367). That action proposed to require installation of an additional drain at the fuselage aft section.

Interested persons have been afforded an opportunity to participate in the making of this amendment. Due consideration has been given to the comments received.

Request To Revise Compliance Time

One commenter requests that the compliance time be relaxed beyond the 400 flight hours specified in the proposed AD. The commenter indicates that a 400-flight-hour compliance time would impose a burden on operators. In addition, the commenter points out that the referenced service bulletin was issued five years ago. The commenter states that if the actions described in the service bulletin are urgent enough to drive a compliance time of 400 flight hours, then it should not take five years to determine that the operator has that amount of time to take corrective action. The commenter suggests that the compliance time be revised to align with the time recommended in the referenced service bulletin, which states “at operator's discretion.”

The FAA concurs partially. The FAA does not agree that definition of the compliance time should be left to the discretion of operators. However, the FAA agrees that a 400-flight-hour compliance time is too restrictive. The FAA finds that extending the compliance time to 1,200 flight hours should coincide with an operator's “3A” check and will not adversely affect safety. Paragraph (a) of the final rule has been revised accordingly.

Request To Add Requirement

The same commenter expresses concern that because the original drain line has a bend, and since the new drain line is located in an unlit area, it is difficult to visually inspect for blockage. The commenter suggests passing an object through the drain line to check for obstructions.

The FAA does not concur. Accomplishment of the inspection should be able to be accomplished by shining a flashlight through the new drain, which has a straight port. The inspection should not require passing an object through the drain line, which could damage the drain line. No change to the final rule is necessary.

Conclusion

After careful review of the available data, including the comments noted above, the FAA has determined that air safety and the public interest require the adoption of the rule with the change described previously. The FAA has determined that this change will neither increase the economic burden on any operator nor increase the scope of the AD.

Cost Impact

The FAA estimates that 200 airplanes of U.S. registry will be affected by this AD, that it will take approximately 10 work hours per airplane to accomplish the required actions, and that the average labor rate is $60 per work hour. Required parts will cost approximately $34 per airplane. Based on these figures, the cost impact of the AD on U.S. operators is estimated to be $126,800, or $634 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-23-30 Empresa Brasileira de Aeronautica S.A. (EMBRAER): Amendment 39-12003. Docket 2000-NM-131-AD.

Applicability: Model EMB-120 series airplanes, certificated in any category, as listed in EMBRAER Service Bulletin 120-53-0064, dated October 31, 1995.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent mechanical blockage of the elevator control cable due to the freezing of water collected inside the fuselage between the rear pressure bulkhead and the fire wall of the auxiliary power unit, which could result in reduced controllability of the airplane, accomplish the following:

Drain Installation

(a) Within 1,200 flight hours after the effective date of this AD, install an additional drain at the fuselage aft section, in accordance with EMBRAER Service Bulletin 120-53-0064, dated October 31, 1995.

Alternative Methods of Compliance

(b) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Atlanta ACO.

Special Flight Permits

(c) Special flight permits may be issued in accordance with sections 21.197 and 21.199 of the Federal Aviation Regulations (14 CFR 21.197 and 21.199) to operate the airplane to a location where the requirements of this AD can be accomplished.

Incorporation by Reference

(d) The installation shall be done in accordance with EMBRAER Service Bulletin 120-53-0064, dated October 31, 1995. This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Note 3: The subject of this AD is addressed in Brazilian airworthiness directive 95-11-01, dated November 22, 1995.

Effective Date

(e) This amendment becomes effective on January 2, 2001.

Issued in Renton, Washington, on November 15, 2000.
Donald L. Riggin,
Acting Manager, Transport Airplane Directorate, Aircraft Certification Service.

[FR Doc. 00-29801 Filed 11-27-00; 8:45 am]

BILLING CODE 4910-13-U